DEPARTMENT OF STATE

[Public Notice 5614]

Eligibility for Participation in Summer Work Travel Programs

AGENCY: Department of State.

ACTION: Notice.

SUMMARY: Pursuant to statutory authority granted the Department of State by Public Law 105-277, foreign post-secondary students participating in a cultural exchange program may be eligible to enter the United States to work and travel during their summer vacations from studies. To be eligible for participation in these programs, foreign students must be selected, screened, placed, and monitored by Department-designated organizations that are authorized to conduct educational and cultural exchange programs. These programs further the public diplomacy efforts of the United States by providing participants with the opportunity to experience the United States and its people.

Participation in these programs is dependent upon student status. For the purpose of determining program eligibility, designated program sponsors may select for program participation only those potential participants who are currently enrolled and participating full-time in post-secondary studies at the time of application. This certification will be published in the Federal Register.

Dated: November 9, 2006.
Stanley S. Colvin,
Director, Office of Exchange Coordination and Designation, Department of State.

[FR Doc. E6-19593 Filed 11-17-06; 8:45 am]

BILLING CODE 4710-05-P